DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before September 5, 2017.

ADDRESSES: You should address comments to: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on July 28, 2017.
Donald Burger,
Chief, Office of the Special Permits and Approvals.

Application No. | Docket No. | Applicant | Regulation(s) affected | Nature of the special permits thereof
SPECIAL PERMITS DATA
9649-M |  | Department of Defense (Military Surface Deployment & Distribution Command) | 172.403(a), 172.403(b), 172.403(c), 172.403(f), 172.403(g)(2), 172.403(g)(3), 172.406(e), 172.203(d)(3), 172.203(d)(5), 172.300(a), 172.301(d), 172.310(a), 172.310(b), 172.310(c), 173.422(a)(1), 173.426(b), 173.426(c), 173.426(d), 173.421(b), 173.421(d) | To modify the special permit to authorize the addition of a Division 1.3C explosive.
11263-M |  | Lone Star Specialties LLC | 173.213(c) | To modify the special permit to authorize the transportation in commerce of “flaked” coal tar pitch in polypropylene bags that are not UN certified.
16536-M |  | FIBA Technologies, Inc | 178.37(k)(1), 178.45(i)(1) | To authorize a reduction in the tensile test specimens from 2 to 1 as is permitted by ISO 11120.
20401-N |  | ATK Launch Systems Inc | 178.935(c)(1) | To authorize the transportation in commerce of UN50D packagings that meet the requirements for Large Packagings, except as provided herein.
20441-N |  | Spaceflight, Inc | 173.185(a) | To authorize the transportation in commerce of low production lithium ion batteries contained in equipment via cargo-only aircraft.
20453-N |  | LG Chem | 172.101 Column (9B) | To authorize the transportation in commerce of lithium ion batteries in excess of 35 kg by cargo-only aircraft.
20488-N |  | Saint Louis University | 173.196 | To authorize the transportation in commerce of Category B Infectious Substances in non-specification packaging.
20489-N |  | ILC Dover LP | 173.56 | To request approval of Class 1 materials.

[FR Doc. 2017-16443 Filed 8-3-17; 8:45 am]

BILLING CODE 4909-60-P